DEPARTMENT OF TRANSPORTATION

Federal Aviation Administration

Notice of Intent To Request Revision From the Office of Management and Budget of a Currently Approved Information Collection Activity, Request for Comments; Operating Requirements: Commuter and On-Demand Operation

AGENCY: Federal Aviation Administration (FAA), DOT.

ACTION: Notice and request for comments.

SUMMARY: The FAA invites public comments about our intention to request the Office of Management and Budget (OMB) to approve a current information collection. This information is needed to identify and track regulated entities required to implement anti-drug and alcohol misuse prevention programs as well as those companies that opt to implement programs.

DATES: Please submit comments by September 11, 2006.

FOR FURTHER INFORMATION CONTACT: Carla Mauney on (202) 267-9895, or by e-mail at: Carla.Mauney@faa.gov.

SUPPLEMENTARY INFORMATION:

Federal Aviation Administration (FAA)

Tile: FAA Research and Development Grants.

Type of Request: Revision of an approved collection.

OMB Control Number: 2120-0685.

Forms(s): There are no FAA forms associated with this collection.

Affected Public: A total of 7240 Respondents.

Frequency: The information is collected as needed.

Estimated Average Burden per Response: Approximately 10 minutes per response.

Estimated Annual Burden Hours: An estimated 1,066 hours annually.

Abstract: This information is needed to identify and track regulated entities required to implement anti-drug and alcohol misuse prevention programs as well as those companies that opt to implement programs. The respondents are aviation employees operating under 14 CFR parts 121, 135, and 145, Air traffic control facilities not operated by the FAA or the U.S. military, operators as defined in 14 CFR 135(c), and certain contractors.

ADDRESSES: Send comments to the FAA at the following address: Ms. Carla Mauney, Room 1033, Federal Aviation Administration, Information Systems and Technology Services Staff, ABA-20, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection or other forms of information technology.

Carla Mauney,
FAA Information Collection Clearance Officer, Information Systems and Technology Services Staff, ABA-20.

[FR Doc. 06-6140 Filed 7-11-06; 8:45 am]

BILLING CODE 4910-13-M